DEPARTMENT OF COMMERCE

National Oceanic and Atmospheric Administration

[I.D. 050702B]

Endangered and Threatened Species; Take of Anadromous Fish

AGENCY: National Marine Fisheries Service (NMFS), National Oceanic and Atmospheric Administration (NOAA), Commerce.

ACTION: Notice of availability and request for public comment on NMFS' evaluation and pending determination of a Tribal Resource Management Plan (Tribal Plan).

SUMMARY: Notice is hereby given that NMFS, by delegated authority from the Secretary of Commerce (Secretary), has evaluated and prepared its pending determination of a Tribal Plan submitted by the Northwest Indian Fisheries Commission, in cooperation with the Puget Sound Indian Tribes, pursuant to the protective regulations promulgated for threatened Hood Canal summer-run chum salmon under the Endangered Species Act (ESA). This document also includes a summary of the underlying biological analysis used in the pending determination.

DATES: Written comments on the pending determination must be received at the appropriate address or fax number (see ADDRESSES) no later than 5 p.m. Pacific Daylight Time on June 17, 2002.

ADDRESSES: Written comments and requests for copies of the evaluation and pending determination should be sent to Leslie Schaeffer, Protected Resources Division, National Marine Fisheries Service, 525 NE Oregon Street, Portland, OR 97232-2737. The full text of the evaluation and pending determination is also available at http://www.nwr.noaa.gov/. Comments may also be faxed to 503-230-5435. Comments will not be accepted if submitted via e-mail or the Internet.

FOR FURTHER INFORMATION CONTACT: Leslie Schaeffer at phone number 503-230-5433 or e-mail: leslie.schaeffer@noaa.gov.

SUPPLEMENTARY INFORMATION: This notice is relevant to the Hood Canal summer-run chum salmon (Oncorhynchus keta) Evolutionarily Significant Unit (ESU).

Background

The Northwest Indian Fisheries Commission submitted a Tribal Plan in cooperation with the Puget Sound Indian Tribes for scientific research and assessment activities within the range of the Hood Canal summer-run chum salmon ESU in the state of Washington. The Puget Sound Indian Tribes conduct, independently and in cooperation with Federal and state agencies, a variety of research and assessment projects that provide the technical basis for their fishery management, and for the conservation and restoration of salmon stocks and their habitat. The need for improved and more quantitative information regarding freshwater and early marine survival needs of salmon is the purpose of the current research activities. The Tribal Plan includes implementation, monitoring, and evaluation procedures designed to ensure that the research activities are consistent with these objectives. The research activities described in the Tribal Plan span a 5 year period beginning on January 1, 2002.

Authority

Under section 4(d) of the ESA, the Secretary is required to adopt such regulations as he deems necessary and advisable for the conservation of the species listed as threatened. The ESA Tribal 4(d) rule (65 FR 42481, July 10, 2000) states that the ESA section 9 take prohibitions will not apply to Tribal Plans provided the Secretary determines that implementation of such Tribal Plan will not appreciably reduce the likelihood of survival and recovery of the listed salmonids.

Dated: May 10, 2002.
Wanda L. Cain,
Acting Director, Office of Protected Resources, National Marine Fisheries Service.

[FR Doc. 02-12276 Filed 5-15-02; 8:45 am]

BILLING CODE 3510-22-S